DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[OST Docket 99-5129]

Department Regulatory Agenda; Semiannual Summary

AGENCY: Office of the Secretary, DOT.

ACTION: Semiannual regulatory agenda.

SUMMARY: The Regulatory Agenda is a semiannual summary of all current and projected rulemakings, reviews of existing regulations, and completed actions of the Department. The intent of the Agenda is to provide the public with information about the Department of Transportation's regulatory activity planned for the next 12 months. It is expected that this information will enable the public to be more aware of and allow it to more effectively participate in the Department's regulatory activity. The public is also invited to submit comments on any aspect of this Agenda.

FOR FURTHER INFORMATION CONTACT:

General

You should direct all comments and inquiries on the Agenda in general to Brett Jortland, Acting Assistant General Counsel for Regulation and Enforcement, Department of Transportation, 1200 New Jersey Avenue SE., Washington, DC 20590; (202) 366-4723.

Specific

You should direct all comments and inquiries on particular items in the Agenda to the individual listed for the regulation or the general rulemaking contact person for the operating administration in appendix B. Individuals who use a telecommunications device for the deaf (TDD) may call (202) 755-7687.

Table of Contents

Supplementary Information:

Background

Significant/Priority Rulemakings

Explanation of Information on the Agenda

Request for Comments

Purpose

Appendix A—Instructions for Obtaining Copies of Regulatory Documents

Appendix B—General Rulemaking Contact Persons

Appendix C—Public Rulemaking Dockets

Appendix D—Review Plans for Section 610 and Other Requirements

SUPPLEMENTARY INFORMATION:

Background

Improvement of our regulations is a prime goal of the Department of Transportation (Department or DOT). Our regulations should be clear, simple, timely, fair, reasonable, and necessary. They should not be issued without appropriate involvement of the public; once issued, they should be periodically reviewed and revised, as needed, to assure that they continue to meet the needs for which they originally were designed. To view additional information about the Department's regulatory activities online, go to http://www.dot.gov/regulations. Among other things, this Web site provides a report, updated monthly, on the status of the DOT significant rulemakings listed in the semiannual regulatory agenda.

To help the Department achieve these goals, and in accordance with Executive Order (E.O.) 12866, “Regulatory Planning and Review,” (58 FR 51735; Oct. 4, 1993) and the Department's Regulatory Policies and Procedures (44 FR 11034; Feb. 26, 1979), the Department prepares a semiannual regulatory agenda. It summarizes all current and projected rulemakings, reviews of existing regulations, and completed actions of the Department. These are matters on which action has begun or is projected during the succeeding 12 months or such longer period as may be anticipated or for which action has been completed since the last Agenda.

The Agendas are based on reports submitted by the offices initiating the rulemaking and are reviewed by OST.

The Internet is the basic means for disseminating the Unified Agenda. The complete Unified Agenda is available online at www.reginfo.gov, in a format that offers users a greatly enhanced ability to obtain information from the Agenda database.

Because publication in the Federal Register is mandated for the regulatory flexibility agendas required by the Regulatory Flexibility Act (5 U.S.C. 602), DOT's printed Agenda entries include only:

1. The agency's Agenda preamble;

2. Rules that are in the agency's regulatory flexibility agenda, in accordance with the Regulatory Flexibility Act, because they are likely to have a significant economic impact on a substantial number of small entities; and

3. Any rules that the agency has identified for periodic review under section 610 of the Regulatory Flexibility Act.

Printing of these entries is limited to fields that contain information required by the Regulatory Flexibility Act's Agenda requirements. These elements are: Sequence Number; Title; Section 610 Review, if applicable; Legal Authority; Abstract; Timetable; Regulatory Flexibility Analysis Required; Agency Contact; and Regulation Identifier Number (RIN). Additional information (for detailed list, see section heading “Explanation of Information on the Agenda”) on these entries is available in the Unified Agenda published on the Internet.

Significant/Priority Rulemakings

The Agenda covers all rules and regulations of the Department. We have classified rules as a DOT agency priority in the Agenda if they are, essentially, very beneficial, controversial, or of substantial public interest under our Regulatory Policies and Procedures. All DOT agency priority rulemaking documents are subject to review by the Secretary of Transportation. If the Office of Management and Budget (OMB) decided a rule is subject to its review under Executive Order 12866, we have classified it as significant in the Agenda.

Explanation of Information on the Agenda

An Office of Management and Budget memorandum, dated August 25, 2014, requires the format for this Agenda.

First, the Agenda is divided by initiating offices. Then, the Agenda is divided into five categories: (1) Prerule stage, (2) proposed rule stage, (3) final rule stage, (4) long-term actions, and (5) completed actions. For each entry, the Agenda provides the following information: (1) Its “significance”; (2) a short, descriptive title; (3) its legal basis; (4) the related regulatory citation in the Code of Federal Regulations; (5) any legal deadline and, if so, for what action (e.g., NPRM, final rule); (6) an abstract; (7) a timetable, including the earliest expected date for a decision on whether to take the action; (8) whether the rulemaking will affect small entities and/or levels of Government and, if so, which categories; (9) whether a Regulatory Flexibility Act (RFA) analysis is required (for rules that would have a significant economic impact on a substantial number of small entities); (10) a listing of any analyses an office will prepare or has prepared for the action (with minor exceptions, DOT requires an economic analysis for all its rulemakings); (11) an agency contact office or official who can provide further information; (12) a Regulation Identifier Number (RIN) assigned to identify an individual rulemaking in the Agenda and facilitate tracing further action on the issue; (13) whether the action is subject to the Unfunded Mandates Reform Act; (14) whether the action is subject to the Energy Act; and (15) whether the action is major under the congressional review provisions of the Small Business Regulatory Enforcement Fairness Act. If there is information that does not fit in the other categories, it will be included under a separate heading entitled “Additional Information.” One such example of this is the letters “SB,” “IC,” and “SLT.” These refer to information used as part of our required reports on Retrospective Review of DOT rulemakings. A “Y” or an “N,” for yes and no, respectively, follow the letters to indicate whether or not a particular rulemaking would have effects on: Small businesses (SB); information collections (IC); or State, local, or tribal (SLT) governments.

For nonsignificant regulations issued routinely and frequently as a part of an established body of technical requirements (such as the Federal Aviation Administration's Airspace Rules), to keep those requirements operationally current, we only include the general category of the regulations, the identity of a contact office or official, and an indication of the expected number of regulations; we do not list individual regulations.

In the “Timetable” column, we use abbreviations to indicate the particular documents being considered. ANPRM stands for Advance Notice of Proposed Rulemaking, SNPRM for Supplemental Notice of Proposed Rulemaking, and NPRM for Notice of Proposed Rulemaking. Listing a future date in this column does not mean we have made a decision to issue a document; it is the earliest date on which we expect to make a decision on whether to issue it. In addition, these dates are based on current schedules. Information received subsequent to the issuance of this Agenda could result in a decision not to take regulatory action or in changes to proposed publication dates. For example, the need for further evaluation could result in a later publication date; evidence of a greater need for the regulation could result in an earlier publication date.

Finally, a dot (•) preceding an entry indicates that the entry appears in the Agenda for the first time.

Request for Comments

General

Our agenda is intended primarily for the use of the public. Since its inception, we have made modifications and refinements that we believe provide the public with more helpful information, as well as make the Agenda easier to use. We would like you, the public, to make suggestions or comments on how the Agenda could be further improved.

Reviews

We also seek your suggestions on which of our existing regulations you believe need to be reviewed to determine whether they should be revised or revoked. We particularly draw your attention to the Department's review plan in appendix D. In response to Executive Order 13563 “Retrospective Review and Analysis of Existing Rules,” we have prepared a retrospective review plan providing more detail on the process we use to conduct reviews of existing rules, including changes in response to Executive Order 13563. We provided the public opportunities to comment at www.regulations.gov and Idea Scale on both our process and any existing DOT rules the public thought needed review. The plan and the results of our review can be found at http://www.dot.gov/regulations and http://www.dot.gov/mission/open/open-government.

Regulatory Flexibility Act

The Department is especially interested in obtaining information on requirements that have a “significant economic impact on a substantial number of small entities” and, therefore, must be reviewed under the Regulatory Flexibility Act. If you have any suggested regulations, please submit them to us, along with your explanation of why they should be reviewed.

In accordance with the Regulatory Flexibility Act, comments are specifically invited on regulations that we have targeted for review under section 610 of the Act. The phrase (sec. 610 Review) appears at the end of the title for these reviews. Please see appendix D for the Department's section 610 review plans.

Consultation With State, Local, and Tribal Governments

Executive Orders 13132 and 13175 require us to develop an accountable process to ensure “meaningful and timely input” by State, local, and tribal officials in the development of regulatory policies that have federalism or tribal implications. These policies are defined in the Executive Orders to include regulations that have “substantial direct effects” on States or Indian tribes, on the relationship between the Federal Government and them, or on the distribution of power and responsibilities between the Federal Government and various levels of Government or Indian tribes. Therefore, we encourage State and local Governments or Indian tribes to provide us with information about how the Department's rulemakings impact them.

Purpose

The Department is publishing this regulatory Agenda in the Federal Register to share with interested members of the public the Department's preliminary expectations regarding its future regulatory actions. This should enable the public to be more aware of the Department's regulatory activity and should result in more effective public participation. This publication in the Federal Register does not impose any binding obligation on the Department or any of the offices within the Department with regard to any specific item on the Agenda. Regulatory action, in addition to the items listed, is not precluded.

Dated: September 23, 2014.
Anthony R. Foxx,
Secretary of Transportation.

Appendix A—Instructions for Obtaining Copies of Regulatory Documents

To obtain a copy of a specific regulatory document in the Agenda, you should communicate directly with the contact person listed with the regulation at the address below. We note that most, if not all, such documents, including the Semiannual Regulatory Agenda, are available through the Internet at http://www.regulations.gov. See appendix C for more information.

(Name of contact person), (Name of the DOT agency), 1200 New Jersey Avenue SE., Washington, DC 20590. (For the Federal Aviation Administration, substitute the following address: Office of Rulemaking, ARM-1, 800 Independence Avenue SW., Washington, DC 20591).

Appendix B—General Rulemaking Contact Persons

The following is a list of persons who can be contacted within the Department for general information concerning the rulemaking process within the various operating administrations.

FAA—Mark Bury, Chief Counsel, International Law, Legislation and Regulations Division, 800 Independence Avenue SW., Room 915A, Washington, DC 20591; telephone (202) 267-3110.

FHWA—Jennifer Outhouse, Office of Chief Counsel, 1200 New Jersey Avenue SE., Washington, DC 20590; telephone (202) 366-0761.

FMCSA—Steven J. LaFreniere, Regulatory Ombudsman, 1200 New Jersey Avenue SE., Washington, DC 20590; telephone (202) 366-0596.

NHTSA—Steve Wood, Office of Chief Counsel, 1200 New Jersey Avenue SE., Washington, DC 20590; telephone (202) 366-2992.

FRA—Kathryn Shelton, Office of Chief Counsel, 1200 New Jersey Avenue SE., Room W31-214, Washington, DC 20590; telephone (202) 493-6063.

FTA—Bonnie Graves, Office of Chief Counsel, 1200 New Jersey Avenue SE., Room E56-308, Washington, DC 20590; telephone (202) 366-0675.

SLSDC—Carrie Mann Lavigne, Chief Counsel, 180 Andrews Street, Massena, NY 13662; telephone (315) 764-3200.

PHMSA—Karin Christian, Office of Chief Counsel, 1200 New Jersey Avenue SE., Washington, DC 20590; telephone (202) 366-4400.

MARAD—Christine Gurland, Office of Chief Counsel, Maritime Administration, 1200 New Jersey Avenue SE., Washington, DC 20590; telephone (202) 366-5157.

OST—Brett Jortland, Office of Regulation and Enforcement, 1200 New Jersey Avenue SE., Washington, DC 20590; telephone (202) 366-4723.

Appendix C—Public Rulemaking Dockets

All comments via the Internet are submitted through the Federal Docket Management System (FDMS) at the following address: http://www.regulations.gov. The FDMS allows the public to search, view, download, and comment on all Federal agency rulemaking documents in one central online system. The above referenced Internet address also allows the public to sign up to receive notification when certain documents are placed in the dockets.

The public also may review regulatory dockets at, or deliver comments on proposed rulemakings to, the Dockets Office at 1200 New Jersey Avenue SE., Room W12-140, Washington, DC 20590, 1-800-647-5527. Working Hours: 9:00 a.m. to 5:00 p.m.

Appendix D—Review Plans for Section 610 and Other Requirements

Part I—The Plan

General

The Department of Transportation has long recognized the importance of regularly reviewing its existing regulations to determine whether they need to be revised or revoked. Our 1979 Regulatory Policies and Procedures require such reviews. We also have responsibilities under Executive Order 12866, “Regulatory Planning and Review,” and section 610 of the Regulatory Flexibility Act to conduct such reviews. This includes the use of plain language techniques in new rules and considering its use in existing rules when we have the opportunity and resources to permit its use. We are committed to continuing our reviews of existing rules and, if needed, will initiate rulemaking actions based on these reviews.

In accordance with Executive Order 13563, “Improving Regulation and Regulatory Review,” issued by the President on January 18, 2011, the Department has added other elements to its review plan. The Department has decided to improve its plan by adding special oversight processes within the Department; encouraging effective and timely reviews, including providing additional guidance on particular problems that warrant review; and expanding opportunities for public participation. These new actions are in addition to the other steps described in this appendix.

Section 610 Review Plan

Section 610 requires that we conduct reviews of rules that: (1) Have been published within the last 10 years, and (2) have a “significant economic impact on a substantial number of small entities” (SEIOSNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, to the extent resources permit, the plain language reviews will be conducted more quickly. Other events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the fall-to-fall schedule for publication of the Agenda. Thus, Year 1 (2008) begins in the fall of 2008 and ends in the fall of 2009; Year 2 (2009) begins in the fall of 2009 and ends in the fall of 2010, and so on. We request public comment on the timing of the reviews. For example, is there a reason for scheduling an analysis and review for a particular rule earlier than we have? Any comments concerning the plan or particular analyses should be submitted to the regulatory contacts listed in appendix B, General Rulemaking Contact Persons.

Section 610 Review

The agency will analyze each of the rules in a given year's group to determine whether any rule has a SEIOSNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to us early in the analysis year concerning the small entity impact of the rules to help us in making our determinations.

In each fall Agenda, the agency will publish the results of the analyses it has completed during the previous year. For rules that had a negative finding on SEIOSNOSE, we will give a short explanation (e.g., “these rules only establish petition processes that have no cost impact” or “these rules do not apply to any small entities”). For parts, subparts, or other discrete sections of rules that do have a SEIOSNOSE, we will announce that we will be conducting a formal section 610 review during the following 12 months. At this stage, we will add an entry to the Agenda in the prerulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each fall Agenda, the agency will also publish information on the results of the examinations completed during the previous year.

Part III—List of Pending Section 610 Reviews

The Agenda identifies the pending DOT section 610 Reviews by inserting “(Section 610 Review),” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 and 14 CFR parts 200 through 212 | 2008 | 2009
2 | 48 CFR parts 1201 through 1253 and new parts and subparts | 2009 | 2010
3 | 14 CFR parts 213 through 232 | 2010 | 2011
4 | 14 CFR parts 234 through 254 | 2011 | 2012
5 | 14 CFR parts 255 through 298 and 49 CFR part 40 | 2012 | 2013
6 | 14 CFR parts 300 through 373 | 2013 | 2014
7 | 14 CFR parts 374 through 398 | 2014 | 2015
8 | 14 CFR part 399 and 49 CFR parts 1 through 11 | 2015 | 2016
9 | 49 CFR parts 17 through 28 | 2016 | 2017
10 | 49 CFR parts 29 through 39 and parts 41 through 89 | 2017 | 2018

Year 1 (fall 2008) List of Rules With Ongoing Analysis

49 CFR part 91—International Air Transportation Fair Competitive Practices

49 CFR part 92—Recovering Debts to the United States by Salary Offset

49 CFR part 98—Enforcement of Restrictions on Post-Employment Activities

49 CFR part 99—Employee Responsibilities and Conduct

14 CFR part 200—Definitions and Instructions

14 CFR part 201—Air Carrier Authority Under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

Year 3 (fall 2010) List of Rules With Ongoing Analysis

14 CFR part 213—Terms, Conditions, and Limitations of Foreign Air Carrier Permits

14 CFR part 214—Terms, Conditions, and Limitations of Foreign Air Carrier Permits Authorizing Charter Transportation Only

14 CFR part 215—Use and Change of Names of Air Carriers, Foreign Air Carriers, and Commuter Air Carriers

14 CFR part 216—Commingling of Blind Sector Traffic by Foreign Air Carriers

14 CFR part 217—Reporting Traffic Statistics by Foreign Air Carriers in Civilian Scheduled, Charter, and Nonscheduled Services

14 CFR part 218—Lease by Foreign Air Carrier or Other Foreign Person of Aircraft With Crew

14 CFR part 221—Tariffs

14 CFR part 222—Intermodal Cargo Services by Foreign Air Carriers

14 CFR part 223—Free and Reduced-Rate Transportation

14 CFR part 232—Transportation of Mail, Review of Orders of Postmaster General

14 CFR part 234—Airline Service Quality Performance Reports

Year 4 (fall 2011) List of Rules With Ongoing Analysis

14 CFR part 240—Inspection of Accounts and Property

14 CFR part 241—Uniform System of Accounts and Reports for Large Certificated Air Carriers

14 CFR part 243—Passenger Manifest Information

14 CFR part 247—Direct Airport-to-Airport Mileage Records

14 CFR part 248—Submission of Audit Reports

14 CFR part 249—Preservation of Air Carrier Records

Year 5 (fall 2012) List of Rules With Ongoing Analysis

14 CFR part 255—Airline Computer Reservations Systems

14 CFR part 256—[Reserved]

14 CFR part 271—Guidelines for Subsidizing Air Carriers Providing Essential Air Transportation

14 CFR part 272—Essential Air Service to the Freely Associated States

14 CFR part 291—Cargo Operations in Interstate Air Transportation

14 CFR part 292—International Cargo Transportation

14 CFR part 293—International Passenger Transportation

14 CFR part 294—Canadian Charter Air Taxi Operators

14 CFR part 296—Indirect Air Transportation of Property

14 CFR part 297—Foreign Air Freight Forwarders and Foreign Cooperative Shippers Associations

14 CFR part 298—Exemptions for Air Taxi and Commuter Air Carrier Operations

Year 6 (2013) List of Rules With Ongoing Analysis

14 CFR part 300—Rules of Conduct in DOT Proceedings Under This Chapter

14 CFR part 302—Rules of Practice in Proceedings

14 CFR part 303—Review of Air Carrier Agreements

14 CFR part 305—Rules of Practice in Informal Nonpublic Investigations

14 CFR part 313—Implementation of the Energy Policy and Conservation Act

14 CFR part 323—Terminations, Suspensions, and Reductions of Service

14 CFR part 325—Essential Air Service Procedures

14 CFR part 330—Procedures For Compensation of Air Carriers

14 CFR part 372—Overseas Military Personnel Charters

Year 7 (2014) List of Rules That Will Be Analyzed During the Next Year

14 CFR part 374—Implementation of the Consumer Credit Protection Act with Respect to Air Carriers and Foreign Air Carriers

14 CFR part 374a—Extension of Credit by Airlines to Federal Political Candidates

14 CFR part 375—Navigation of Foreign Civil Aircraft within the United States

14 CFR part 377—Continuance of Expired Authorizations by Operation of Law Pending Final Determination of Applications for Renewal Thereof

14 CFR part 380—Public Charters

14 CFR part 381—Special Event Tours

14 CFR part 382—Nondiscrimination On The Basis Of Disability in Air Travel

14 CFR part 383—Civil Penalties

14 CFR part 385—Staff Assignments and Review of Action under Assignments

14 CFR part 389—Fees and Charges for Special Services

14 CFR part 398—Guidelines for Individual Determinations of Basic Essential Air Service

Federal Aviation Administration

Section 610 Review Plan

The FAA has elected to use the two-step, two-year process used by most DOT modes in past plans. As such, the FAA has divided its rules into 10 groups as displayed in the table below. During the first year (the “analysis year”), all rules published during the previous 10 years within a 10% block of the regulations will be analyzed to identify those with a SEIOSNOSE. During the second year (the “review year”), each rule identified in the analysis year as having a SEIONOSE will be reviewed in accordance with Section 610 (b) to determine if it should be continued without change or changed to minimize impact on small entities. Results of those reviews will be published in the DOT Semiannual Regulatory Agenda.

Year | Regulations to be reviewed | Analysis year | Review year
1 | 14 CFR parts 119 through 129 and parts 150 through 156 | 2008 | 2009
2 | 14 CFR parts 133 through 139 and parts 157 through 169 | 2009 | 2010
3 | 14 CFR parts 141 through 147 and parts 170 through 187 | 2010 | 2011
4 | 14 CFR parts 189 through 198 and parts 1 through 16 | 2011 | 2012
5 | 14 CFR parts 17 through 33 | 2012 | 2013
6 | 14 CFR parts 34 through 39 and parts 400 through 405 | 2013 | 2014
7 | 14 CFR parts 43 through 49 and parts 406 through 415 | 2014 | 2015
8 | 14 CFR parts 60 through 77 | 2015 | 2016
9 | 14 CFR parts 91 through 105 | 2016 | 2017
10 | 14 CFR parts 417 through 460 | 2017 | 2018

Year 7 (2014) List of Rules Analyzed and Summary of Results

14 CFR part 43—Maintenance, Preventive maintenance, Rebuilding, and Alteration

• Section 610: The agency conducted a Section 610 review of this part and found no SEISNOSE.

• General: No changes are needed. These regulations are cost effective and impose the least burden. FAA's plain language review of these rules indicates no need for substantial revision.

14 CFR part 45—Identification and Registration Marking

• Section 610: The agency conducted a Section 610 review of this part and found no SEISNOSE.

• General: No changes are needed. These regulations are cost effective and impose the least burden. FAA's plain language review of these rules indicates no need for substantial revision.

14 CFR part 47—Aircraft Registration

• Section 610: The agency conducted a Section 610 review of this part and found no SEISNOSE.

• General: No changes are needed. These regulations are cost effective and impose the least burden. FAA's plain language review of these rules indicates no need for substantial revision.

14 CFR part 49—Recording of Aircraft Titles and Security Documents

• Section 610: The agency conducted a Section 610 review of this part and found no SEISNOSE.

• General: No changes are needed. These regulations are cost effective and impose the least burden. FAA's plain language review of these rules indicates no need for substantial revision.

14 CFR part 406—Investigations, Enforcement, and Administrative Review

• Section 610: The agency conducted a Section 610 review of this part and found no SEISNOSE.

• General: No changes are needed. These regulations are cost effective and impose the least burden. FAA's plain language review of these rules indicates no need for substantial revision.

14 CFR part 413—License Application Procedures

• Section 610: The agency conducted a Section 610 review of this part and found no SEISNOSE.

• General: No changes are needed. These regulations are cost effective and impose the least burden. FAA's plain language review of these rules indicates no need for substantial revision.

14 CFR part 414—Safety Approvals

• Section 610: The agency conducted a Section 610 review of this part and found no SEISNOSE.

• General: No changes are needed. These regulations are cost effective and impose the least burden. FAA's plain language review of these rules indicates no need for substantial revision.

14 CFR part 415—Launch License

• Section 610: The agency conducted a Section 610 review of this part and found no SEISNOSE.

• General: No changes are needed. These regulations are cost effective and impose the least burden. FAA's plain language review of these rules indicates no need for substantial revision.

Year 8 (2015) List of Rules To Be Analyzed During the Next Year

14 CFR part 60—Flight Simulation Training Device Initial and Continuing Qualification and Use

14 CFR part 61—Certification: Pilots, Flight Instructors, and Ground Instructors

14 CFR part 63—Certification: Flight Crewmembers other than Pilots

14 CFR part 65—Certification: Airmen other than Flight Crewmembers

14 CFR part 67—Medical Standards and Certification

14 CFR part 71—Designation of Class A, B, C, D, and E Airspace Areas; Air Traffic Service Routes; and Reporting Points

14 CFR part 73—Special Use Airspace

14 CFR part 77—Safe, Efficient Use, and Preservation of the Navigable Airspace

Federal Highway Administration

Section 610 and Other Reviews

Year | Regulations to be reviewed | Analysis year | Review year
1 | None | 2008 | 2009
2 | 23 CFR parts 1 to 260 | 2009 | 2010
3 | 23 CFR parts 420 to 470 | 2010 | 2011
4 | 23 CFR part 500 | 2011 | 2012
5 | 23 CFR parts 620 to 637 | 2012 | 2013
6 | 23 CFR parts 645 to 669 | 2013 | 2014
7 | 23 CFR parts 710 to 924 | 2014 | 2015
8 | 23 CFR parts 940 to 973 | 2015 | 2016
9 | 23 CFR parts 1200 to 1252 | 2016 | 2017
10 | New parts and subparts | 2017 | 2018

Federal-Aid Highway Program

The Federal Highway Administration (FHWA) has adopted regulations in title 23 of the CFR, chapter I, related to the Federal-Aid Highway Program. These regulations implement and carry out the provisions of Federal law relating to the administration of Federal aid for highways. The primary law authorizing Federal aid for highways is chapter I of title 23 of the U.S.C. 145 of title 23 expressly provides for a federally assisted State program. For this reason, the regulations adopted by the FHWA in title 23 of the CFR primarily relate to the requirements that States must meet to receive Federal funds for the construction and other work related to highways. Because the regulations in title 23 primarily relate to States, which are not defined as small entities under the Regulatory Flexibility Act, the FHWA believes that its regulations in title 23 do not have a significant economic impact on a substantial number of small entities. The FHWA solicits public comment on this preliminary conclusion.

Year 6 (fall 2013) List of Rules Analyzed and a Summary of Results

23 CFR part 645—Utilities

• Section 610: No SEIOSNOSE. No small entities are affected

• General: No changes are needed. These regulations are cost effective and impose the least burden. FHWA's plain language review of these rules indicates no need for substantial revision.

23 CFR part 646—Railroads

• Section 610: No SEIOSNOSE. No small entities are affected

• General: No changes are needed. These regulations are cost effective and impose the least burden. FHWA's plain language review of these rules indicates no need for substantial revision.

23 FR part 650—Bridges, structures, and hydraulics

• Section 610: No SEIOSNOSE. No small entities are affected

• General: No changes are needed. These regulations are cost effective and impose the least burden. FHWA's plain language review of these rules indicates no need for substantial revision.

23 CFR part 652—Pedestrian and bicycle accommodations and projects

• Section 610: No SEIOSNOSE. No small entities are affected

• General: No changes are needed. These regulations are cost effective and impose the least burden. FHWA's plain language review of these rules indicates no need for substantial revision.

23 CFR part 655—Traffic operations

• Section 610: No SEIOSNOSE. No small entities are affected

• General: No changes are needed. These regulations are cost effective and impose the least burden. FHWA's plain language review of these rules indicates no need for substantial revision.

23 CFR part 656—Carpool and vanpool projects

• Section 610: No SEIOSNOSE. No small entities are affected

• General: No changes are needed. These regulations are cost effective and impose the least burden. FHWA's plain language review of these rules indicates no need for substantial revision.

23 CFR part 657—Certification of size and weight enforcement

• Section 610: No SEIOSNOSE. No small entities are affected

• General: No changes are needed. These regulations are cost effective and impose the least burden. FHWA's plain language review of these rules indicates no need for substantial revision.

23 CFR part 658—Truck size and weight, route designations—length, width and weight limitations

• Section 610: No SEIOSNOSE. No small entities are affected

• General: No changes are needed. These regulations are cost effective and impose the least burden. FHWA's plain language review of these rules indicates no need for substantial revision.

23 CFR part 660—Special programs (Direct Federal)

• Section 610: No SEIOSNOSE. No small entities are affected

• General: No changes are needed. These regulations are cost effective and impose the least burden. FHWA's plain language review of these rules indicates no need for substantial revision.

23 CFR part 661—Indian Reservation Road Bridge Program

• Section 610: No SEIOSNOSE. No small entities are affected

• General: No changes are needed. These regulations are cost effective and impose the least burden. FHWA's plain language review of these rules indicates no need for substantial revision.

23 CFR part 668—Emergency Relief program

• Section 610: No SEIOSNOSE. No small entities are affected

• General: No changes are needed. These regulations are cost effective and impose the least burden. FHWA's plain language review of these rules indicates no need for substantial revision.

23 CFR part 669—Enforcement of heavy vehicle use tax

• Section 610: No SEIOSNOSE. No small entities are affected

• General: No changes are needed. These regulations are cost effective and impose the least burden. FHWA's plain language review of these rules indicates no need for substantial revision.

Year 7 (fall 2014) List of Rules That Will be Analyzed During the Next Year

23 CFR part 710—Right-of-way and real estate

23 CFR part 750—Highway beautification

23 CFR part 751—Junkyard control and acquisition

23 CFR part 752—Landscape and roadside development

23 CFR part 771—Environmental impact and related procedures

23 CFR part 772—Procedures for abatement of highway traffic noise and construction noise

23 CFR part 773—Surface Transportation Project Delivery Pilot Program

23 CFR part 774—Parks, recreation areas, wildlife and waterfowl refuges, and historic sites (Section 4(f))

23 CFR part 777—Mitigation of impacts to wetlands and natural habitat

23 CFR part 810—Mass transit and special use highway projects

23 CFR part 924—Highway safety improvement program

Federal Motor Carrier Safety Administration

Section 610 and Other Reviews

Year | Regulations to be reviewed | Analysis year | Review year
1 | 49 CFR part 372, subpart A | 2008 | 2009
2 | 49 CFR part 386 | 2009 | 2010
3 | 49 CFR parts 325 and 390 (General) | 2010 | 2011
4 | 49 CFR parts 390 (Small Passenger-Carrying Vehicles), 391 to 393 and 396 to 399 | 2011 | 2012
5 | 49 CFR part 387 | 2012 | 2013
6 | 49 CFR parts 356, 367, 369 to 371, 372 (subparts B and C) | 2013 | 2014
7 | 49 CFR parts 373, 374, 376, and 379 | 2014 | 2015
8 | 49 CFR parts 360, 365, 366, and 368 | 2015 | 2016
9 | 49 CFR part 395 | 2016 | 2017
10 | 49 CFR parts 375, 377, 378 | 2017 | 2018

Year 3 (Fall 2010) List of Rules With Ongoing Analysis

49 CFR part 325—Compliance With Interstate Motor Carrier Noise Emission

49 CFR part 390—Federal Motor Carrier Safety Regulations, General

Year 4 (Fall 2011) List of Rules Analyzed and a Summary of Results

49 CFR part 399—Employee Safety and Health Standards

• Section 610: The agency conducted a Section 610 review of these parts and found no SEIOSNOSE. While these parts affect a substantial number of small entities, the current requirements are prudent business practices and do not impose a significant economic impact.

• General: No changes are needed. These regulations are cost effective and impose the least burden. FMCSA's plain language review of these rules indicates no need for substantial revision.

Year 4 (Fall 2011) List of Rules With Ongoing Analysis

49 CFR part 390—Definition of Commercial Motor Vehicle (CMV)—Requirements for Operators of Small Passenger-Carrying CMVs.

• This rule was moved up from Year 4 as a result of the Department's Retrospective Regulatory Review.

49 CFR part 391—Driver Qualifications

49 CFR part 392—Driving of Commercial Motor Vehicles

49 CFR part 393—Parts and Accessories Necessary for Safe Operation

49 CFR part 396—Inspection, Repair and Maintenance of Commercial Motor Vehicles

49 CFR part 397—Transportation of Hazardous Materials; Driving and Parking Rules

49 CFR part 398—Transportation of Migrant Workers

Year 5 (Fall 2012) List of Rules Analyzed and a Summary of Results

49 CFR part 387—Minimum Levels of Financial Responsibility for Motor Carriers

• Section 610: The agency conducted a Section 610 review of this part and found no SEIOSNOSE. While part 387 affects a substantial number of small entities, the currently required minimum levels of financial responsibility do not impose a significant economic impact because the industry standard imposed by lenders requires an even higher level of coverage.

• General: On July 6, 2012, the President signed Moving Ahead for Progress in the 21st Century Act (MAP-21) into law. Section 32104 of MAP-21 directed the Secretary to issue a report on the appropriateness of: (1) the current minimum financial responsibility requirements for the transportation of passengers and property; and (2) the current bond and insurance requirements for freight forwarders and brokers, including for brokers for motor carriers of passengers. FMCSA issued this report in April 2014. Section 32104 also directed the Secretary to determine the appropriateness of these requirements every 4 years and to issue similar reports to Congress. In its April 2014 report, FMCSA concluded that the current financial responsibility minimums are inadequate to cover the costs of some crashes. FMCSA is drafting an Advance Notice of Proposed Rulemaking an to considering increasing the current levels of minimum financial responsibility.

Year 6 (Fall 2013) List of Rule(s) With Ongoing Analysis

49 CFR part 356—Motor Carrier Routing Regulations

49 CFR part 367—Standards for Registration With States

49 CFR part 369—Reports of Motor Carriers

49 CFR part 370—Principles and Practices for the Investigation and Voluntary Disposition of Loss and Damage Claims and Processing Salvage

49 CFR part 371—Brokers of Property

49 CFR part 372 (subparts B and C)—Exemptions, Commercial Zones and Terminal Areas

Year 7 (Fall 2014) List of Rule(s) That Will Be Analyzed This Year

49 CFR part 373—Receipts and Bills

49 CFR part 374—Discrimination in Operations of Interstate Motor Common Carriers of Passengers

49 CFR part 376—Lease and Interchange of Vehicles

49 CFR part 379—Preservation of Records

National Highway Traffic Safety Administration

Section 610 and Other Reviews

Year | Regulations to be reviewed | Analysis year | Review year
1 | 49 CFR parts 571.223 through 571.500, and parts 575 and 579 | 2008 | 2009
2 | 23 CFR parts 1200 through 1300 | 2009 | 2010
3 | 49 CFR parts 501 through 526 and 571.213 | 2010 | 2011
4 | 49 CFR parts 571.131, 571.217, 571.220, 571.221, and 571.222 | 2011 | 2012
5 | 49 CFR parts 571.101 through 571.110, and 571.135, 571.138, and 571.139 | 2012 | 2013
6 | 49 CFR parts 529 through 578, except parts 571 and 575 | 2013 | 2014
7 | 49 CFR parts 571.111 through 571.129 and parts 580 through 588 | 2014 | 2015
8 | 49 CFR parts 571.201 through 571.212 | 2015 | 2016
9 | 49 CFR parts 571.214 through 571.219, except 571.217 | 2016 | 2017
10 | 49 CFR parts 591 through 595 and new parts and subparts | 2017 | 2018

Year 6 (fall 2013) List of Rules Analyzed and a Summary of the Results

49 CFR part 529—Manufacturers of Multistage Automobiles

• Section 610: There is no SEIOSNOSE.

• General: No changes are needed. These regulations are cost effective and impose the least burden. NHTSA's plain language review of these rules indicates no need for substantial revision.

49 CFR part 531—Passenger Automobile Average Fuel Economy

• Section 610: There is no SEIOSNOSE.

• General: No changes are needed. These regulations are cost effective and impose the least burden. NHTSA's plain language review of these rules indicates no need for substantial revision.

49 CFR part 533—Light Truck Fuel Economy Standards

• Section 610: There is no SEIOSNOSE.

• General: No changes are needed. These regulations are cost effective and impose the least burden. NHTSA's plain language review of these rules indicates no need for substantial revision.

49 CFR part 534—Rights and Responsibilities of Manufacturers in the Context of Changes in Corporate Relationships

• Section 610: There is no SEIOSNOSE.

• General: No changes are needed. These regulations are cost effective and impose the least burden. NHTSA's plain language review of these rules indicates no need for substantial revision.

49 CFR part 535—Medium- and Heavy-Duty Vehicle Fuel Efficiency Program

• Section 610: There is no SEIOSNOSE.

• General: No changes are needed. These regulations are cost effective and impose the least burden. NHTSA's plain language review of these rules indicates no need for substantial revision.

49 CFR part 536—Transfer and Trading of Fuel Economy Credits

• Section 610: There is no SEIOSNOSE.

• General: No changes are needed. These regulations are cost effective and impose the least burden. NHTSA's plain language review of these rules indicates no need for substantial revision.

49 CFR part 537—Automotive Fuel Economy Reports

• Section 610: There is no SEIOSNOSE.

• General: No changes are needed. These regulations are cost effective and impose the least burden. NHTSA's plain language review of these rules indicates no need for substantial revision.

49 CFR part 538—Manufacturing Incentives for Alternative Fuel Vehicles

• Section 610: There is no SEIOSNOSE.

• General: No changes are needed. These regulations are cost effective and impose the least burden. NHTSA's plain language review of these rules indicates no need for substantial revision.

49 CFR part 541—Federal Motor Vehicle Theft Prevention Standard

• Section 610: There is no SEIOSNOSE.

• General: No changes are needed. These regulations are cost effective and impose the least burden. NHTSA's plain language review of these rules indicates no need for substantial revision.

49 CFR part 542—Procedures for Selecting Light Duty Truck Lines to be Covered by the Theft Prevention Standard

• Section 610: There is no SEIOSNOSE.

• General: No changes are needed. These regulations are cost effective and impose the least burden. NHTSA's plain language review of these rules indicates no need for substantial revision.

49 CFR part 543—Exemption From Vehicle Theft Prevention Standard

• Section 610: There is no SEIOSNOSE.

• General: No changes are needed. These regulations are cost effective and impose the least burden. NHTSA's plain language review of these rules indicates no need for substantial revision.

49 CFR part 545—Federal Motor Vehicle Theft Prevention Standard Phase-In and Small-Volume Line Reporting Requirements

• Section 610: There is no SEIOSNOSE.

• General: No changes are needed. These regulations are cost effective and impose the least burden. NHTSA's plain language review of these rules indicates no need for substantial revision.

49 CFR part 551—Procedural Rules

• Section 610: There is no SEIOSNOSE.

• General: No changes are needed. These regulations are cost effective and impose the least burden. NHTSA's plain language review of these rules indicates no need for substantial revision.

49 CFR part 552—Petitions for Rulemaking, Defect, and Noncompliance Orders

• Section 610: There is no SEIOSNOSE.

• General: No changes are needed. These regulations are cost effective and impose the least burden. NHTSA's plain language review of these rules indicates no need for substantial revision.

49 CFR part 553—Rulemaking Procedures

• Section 610: There is no SEIOSNOSE.

• General: No changes are needed. These regulations are cost effective and impose the least burden. NHTSA's plain language review of these rules indicates no need for substantial revision.

49 CFR part 554—Standards Enforcement and Defects Investigation

• Section 610: There is no SEIOSNOSE.

• General: No changes are needed. These regulations are cost effective and impose the least burden. NHTSA's plain language review of these rules indicates no need for substantial revision.

49 CFR part 555—Temporary Exemption from Motor Vehicle Safety and Bumper Standards

• Section 610: There is no SEIOSNOSE.

• General: No changes are needed. These regulations are cost effective and impose the least burden. NHTSA's plain language review of these rules indicates no need for substantial revision.

49 CFR part 556—Exemption for Inconsequential Defect or Noncompliance

• Section 610: There is no SEIOSNOSE.

• General: No changes are needed. These regulations are cost effective and impose the least burden. NHTSA's plain language review of these rules indicates no need for substantial revision.

49 CFR part 557—Petitions for Hearings on Notification and Remedy of Defects

• Section 610: There is no SEIOSNOSE.

• General: No changes are needed. These regulations are cost effective and impose the least burden. NHTSA's plain language review of these rules indicates no need for substantial revision.

49 CFR part 563—Event Data Recorders

• Section 610: There is no SEIOSNOSE.

• General: No changes are needed. These regulations are cost effective and impose the least burden. NHTSA's plain language review of these rules indicates no need for substantial revision.

49 CFR part 564—Replaceable Light Source and Sealed Beam Headlamp Information

• Section 610: There is no SEIOSNOSE.

• General: No changes are needed. These regulations are cost effective and impose the least burden. NHTSA's plain language review of these rules indicates no need for substantial revision.

49 CFR part 565—Vehicle Identification Number (VIN) Requirements

• Section 610: There is no SEIOSNOSE.

• General: No changes are needed. These regulations are cost effective and impose the least burden. NHTSA's plain language review of these rules indicates no need for substantial revision.

49 CFR part 566—Manufacturer Identification

• Section 610: There is no SEIOSNOSE.

• General: No changes are needed. These regulations are cost effective and impose the least burden. NHTSA's plain language review of these rules indicates no need for substantial revision.

49 CFR part 567—Certification

• Section 610: There is no SEIOSNOSE.

• General: No changes are needed. These regulations are cost effective and impose the least burden. NHTSA's plain language review of these rules indicates no need for substantial revision.

49 CFR part 568—Vehicles Manufactured in Two or More Stages—All Incomplete, Intermediate and Final-Stage Manufacturers of Vehicles Manufactured in Two or More Stages

• Section 610: There is no SEIOSNOSE.

• General: No changes are needed. These regulations are cost effective and impose the least burden. NHTSA's plain language review of these rules indicates no need for substantial revision.

49 CFR part 569—Regrooved Tires

• Section 610: There is no SEIOSNOSE.

• General: No changes are needed. These regulations are cost effective and impose the least burden. NHTSA's plain language review of these rules indicates no need for substantial revision.

49 CFR part 570—Vehicle In Use Inspection Standards

• Section 610: There is no SEIOSNOSE.

• General: No changes are needed. These regulations are cost effective and impose the least burden. NHTSA's plain language review of these rules indicates no need for substantial revision.

49 CFR part 572—Anthropomorphic Test Devices

• Section 610: There is no SEIOSNOSE.

• General: No changes are needed. These regulations are cost effective and impose the least burden. NHTSA's plain language review of these rules indicates no need for substantial revision.

49 CFR part 573—Defect and Noncompliance Responsibility and Reports

• Section 610: There is no SEIOSNOSE.

• General: No changes are needed. These regulations are cost effective and impose the least burden. NHTSA's plain language review of these rules indicates no need for substantial revision.

49 CFR part 574—Tire Identification and Recordkeeping

• Section 610: There is no SEIOSNOSE.

• General: No changes are needed. These regulations are cost effective and impose the least burden. NHTSA's plain language review of these rules indicates no need for substantial revision.

49 CFR part 576—Record Retention

• Section 610: There is no SEIOSNOSE.

• General: No changes are needed. These regulations are cost effective and impose the least burden. NHTSA's plain language review of these rules indicates no need for substantial revision.

49 CFR part 577—Defect and Noncompliance Notification

• Section 610: There is no SEIOSNOSE.

• General: No changes are needed. These regulations are cost effective and impose the least burden. NHTSA's plain language review of these rules indicates no need for substantial revision.

49 CFR part 578—Civil and Criminal Penalties

• Section 610: There is no SEIOSNOSE.

• General: No changes are needed. These regulations are cost effective and impose the least burden. NHTSA's plain language review of these rules indicates no need for substantial revision.

Year 7 (Fall 2014) List of Rules That Will Be Analyzed During the Next Year

49 CFR part 571.111—Rear Visibility

49 CFR part 571.112—[Reserved]

49 CFR part 571.113—Hood Latch System

49 CFR part 571.114—Theft Protection and Rollaway Prevention

49 CFR part 571.115—[Reserved]

49 CFR part 571.116—Motor Vehicle Brake Fluids

49 CFR part 571.117—Retreaded Pneumatic Tires

49 CFR part 571.118—Power-Operated Window, Partition, and Roof Panel Systems

49 CFR part 571.119—New Pneumatic Tires For Motor Vehicles With a GVWR of More Than 4,536 Kilograms (10,000 Pounds) and Motorcycles

49 CFR part 571.120—Tire Selection and Rims and Motor Home/Recreation Vehicle Trailer Load Carrying Capacity Information For Motor Vehicles With a GVWR of More Than 4,536 Kilograms (10,000 Pounds)

49 CFR part 571.121—Air Brake Systems

49 CFR part 571.122—Motorcycle Brake Systems

49 CFR part 571.122a—Motorcycle Brake Systems

49 CFR part 571.123—Motorcycle Controls and Displays

49 CFR part 571.124—Accelerator Control Systems

49 CFR part 571.125—Warning Devices

49 CFR part 571.126—Electronic Stability Control Systems

49 CFR part 571.127-571.128—[Reserved]

49 CFR part 571.129—New Non-pneumatic Tires For Passenger Cars

49 CFR part 580—Odometer Disclosure Requirements

49 CFR part 581—Bumper Standard

49 CFR part 582—Insurance Cost Information Regulation

49 CFR part 583—Automobile Parts Content Labeling

49 CFR part 585—Phase-In Reporting Requirements

49 CFR part 586—[Reserved]

49 CFR part 587—Deformable Barriers

49 CFR part 588—Child Restraint Systems Recordkeeping Requirements

Federal Railroad Administration

Section 610 and Other Reviews

Year | Regulations to be reviewed | Analysis year | Review year
1 | 49 CFR parts 200 and 201 | 2008 | 2009
2 | 49 CFR parts 207, 209, 211, 215, 238, and 256 | 2009 | 2010
3 | 49 CFR parts 210, 212, 214, 217, and 268 | 2010 | 2011
4 | 49 CFR part 219 | 2011 | 2012
5 | 49 CFR parts 218, 221, 241, and 244 | 2012 | 2013
6 | 49 CFR parts 216, 228, and 229 | 2013 | 2014
7 | 49 CFR parts 223 and 233 | 2014 | 2015
8 | 49 CFR parts 224, 225, 231, and 234 | 2015 | 2016
9 | 49 CFR parts 222, 227, 235, 236, 250, 260, and 266 | 2016 | 2017
10 | 49 CFR parts 213, 220, 230, 232, 239, 240, and 265 | 2017 | 2018

Year 6 (Fall 2013) List of Rules Analyzed and a Summary of Results

49 CFR part 216—Special Notice and Emergency Order Procedures: Railroad Track, Locomotive and Equipment

• Section 610: There is no SEIOSNOSE.

• General: Since the rule deals with the special notices for repairs of railroad freight car, locomotive, passenger equipment, and track class, and prescribes for the issuance and review of emergency orders for removing dangerously substandard track from service, it will provide safety and security for railroad employees and the public. FRA's plain language review of this rule indicates no need for substantial revision.

49 CFR part 228—Hours of Service of Railroad Employees

• Section 610: There is no SEIOSNOSE.

• General: Since the rule prescribes reporting and recordkeeping requirements regarding the hours of service of certain railroad employees, railroad contractors and subcontractors; establishes requirements for electronic recordkeeping systems for the creation and maintenance of required hours of service records; establishes standards and procedures concerning the construction or reconstruction of sleeping quarters; establishes minimum safety and health standards for camp cars provided by a railroad as sleeping quarters; and prescribes substantive hours of service requirements for train employees engaged in commuter or intercity rail passenger transportation, it promotes the safety of railroad operations and employees. FRA's plain language review of this rule indicates no need for substantial revision.

49 CFR part 229—Railroad Locomotive Safety Standards

• Section 610: There is a SEIOSNOSE. These are minimum Federal standards for railroad locomotive safety. The FRA will conduct a formal review to identify whether opportunities may exist to reduce the burden on small railroads without compromising safety standards.

• General: Since the rule prescribes minimum Federal safety standards for all locomotives except those propelled by steam power, these regulations are necessary to achieve better and effective compliance of railroad locomotive safety standards and to minimize the number of casualties. FRA's plain language review of this rule indicates that there is no need for substantial revision.

Year 7 (Fall 2014) List of Rule(s) That Will Be Analyzed During Next Year

49 CFR part 223—Safety Glazing Standards—Locomotives, Passenger Cars and Cabooses

49 CFR part 233—Signal System Reporting Requirements

Federal Transit Administration

Section 610 and Other Reviews

Year | Regulations to be reviewed | Analysis year | Review year
1 | 49 CFR parts 604, 605, and 633 | 2008 | 2009
2 | 49 CFR parts 661 and 665 | 2009 | 2010
3 | 49 CFR part 633 | 2010 | 2011
4 | 49 CFR parts 609 and 611 | 2011 | 2012
5 | 49 CFR parts 613 and 614 | 2012 | 2013
6 | 49 CFR part 622 | 2013 | 2014
7 | 49 CFR part 630 | 2014 | 2015
8 | 49 CFR part 639 | 2015 | 2016
9 | 49 CFR parts 659 and 663 | 2016 | 2017
10 | 49 CFR part 665 | 2017 | 2018

Year 6 (Fall 2013): List of Rules Analyzed and Summary of Results

49 CFR part 622—Environmental Impact and Related Procedures

• Section 610: The agency has determined that the rule does not have a significant effect on a substantial number of small entities. FTA and FHWA recently revised the rule and evaluated the likely effects of the final rule on small entities and requested public comment during the rulemaking process. FTA and FHWA determined that the rule does not have a significant economic impact on entities of any size. FTA and FHWA expect the revisions to the rule will expedite environmental review. Thus, FTA and FHWA determined that the rule will not have a significant economic impact on a substantial number of small entities. FTA and FHWA received no comment on this issue in the rulemaking process.

• General: FTA revised part 622 via a final rule in January 2013, in order to implement recent MAP-21 requirements (see 79 FR 2107). Part 622 cross-references 23 CFR part 771. FTA and FHWA joint procedures at 23 CFR part 771 describe how FTA and FHWA comply with NEPA and the Council on Environmental Quality (CEQ) regulations implementing NEPA. Sections 1316 and 1317 of MAP-21 require the Secretary of Transportation to promulgate regulations designating two types of actions as categorical exclusions in 23 CFR part 771: (1) Any project (as defined in 23 U.S.C. 101(a)) within an existing operational right-of-way; and (2) any project that receives less than $5,000,000 of Federal funds or with a total estimated cost of not more than $30,000,000 and Federal funds comprising less than 15 percent of the total estimated project cost, respectively.

Year 7 (Fall 2014) List of Rules That Will Be Analyzed During the Next Year

49 CFR part 630—National Transit Database

Maritime Administration

Section 610 and Other Reviews

Year | Regulations to be reviewed | Analysis year | Review year
1 | 46 CFR parts 201 through 205 | 2008 | 2009
2 | 46 CFR parts 221 through 232 | 2009 | 2010
3 | 46 CFR parts 249 through 296 | 2010 | 2011
4 | 46 CFR parts 221, 298, 308, and 309 | 2011 | 2012
5 | 46 CFR parts 307 through 309 | 2012 | 2013
6 | 46 CFR part 310 | 2013 | 2014
7 | 46 CFR parts 315 through 340 | 2014 | 2015
8 | 46 CFR parts 345 through 381 | 2015 | 2016
9 | 46 CFR parts 382 through 389 | 2016 | 2017
10 | 46 CFR parts 390 through 393 | 2017 | 2018

Year 4 (fall 2011) List of Rules Analyzed and Summary of Results

46 CFR part 221—Foreign Transfer Regulations

• Section 610: There is no SEIOSNOSE.

• General: An updated rule was promulgated, providing technical changes including corrections to statutory references, updates to citations and addresses, and deleted other obsolete references.

46 CFR part 327—Administrative Claims

• Section 610: There is no SEIOSNOSE.

• General: An updated rule was promulgated, providing clarity to the public regarding the filing of administrative claims and adopting a procedural process for effectively resolving claims under the Suits in Admiralty Act, the Admiralty Extension Act and the Clarification Act.

46 CFR part 249—Approval of Underwriters for Marine Hull Insurance

• Section 610: There is no SEIOSNOSE.

• General: No changes are needed. MARAD's plain language review of this rule indicated no need for substantial revision.

46 CFR part 287—Establishment of Construction Reserve Funds

• Section 610: There is no SEIOSNOSE.

• General: No changes are needed. MARAD's plain language review of this rule indicated no need for substantial revision.

46 CFR part 295—Maritime Security Program (MSP)

• Section 610: There is no SEIOSNOSE.

• General: No changes are needed. MARAD's plain language review of this rule indicated no need for substantial revision.

Year 4 (fall 2011) List of Rules With Ongoing Analysis

46 CFR part 381—Cargo Preference—U.S.-Flag Vessels

46 CFR part 383—Cargo Preference—Compromise, Assessment, Mitigation, Settlement, and Collection of Civil Penalties

46 CFR part 272—Requirements and Procedures for Conducting Condition Surveys and Administering Maintenance and Repair Subsidy

46 CFR part 296—Maritime Security Program (MSP)

Year 5 (2012) List of Rules Analyzed and Summary of Results

46 CFR part 308—War Risk Insurance

• Section 610: There is no SEIOSNOSE.

• General: An updated rule was promulgated, correcting numerous citations, updating relevant agency contact and underwriting agent information, and removing other obsolete references.

46 CFR part 309—War Risk Ship Valuation

• Section 610: There is no SEIOSNOSE.

• General: No changes are needed. MARAD's plain language review of this rule indicated no need for substantial revision.

Year 5 (2012) List of Rules With Ongoing Analysis

46 CFR part 307—Mandatory Position Report System for Vessels

Year 6 (2013) List of Rules With Ongoing Analysis

46 CFR part 310—Merchant Marine Training

Year 7 (2014) List of Rules That Will be Analyzed During the Next Year

46 CFR part 315—Agency Agreements and Appointment of Agents

46 CFR part 317—Bonding of Ship's Personnel

46 CFR part 324—Procedural Rules for Financial Transactions Under Agency Agreements

46 CFR part 325—Procedure to be Followed by General Agents in Preparation of Invoices and Payment of Compensation Pursuant to Provisions of NSA Order No. 47

46 CFR part 326—Marine Protection and Indemnity Insurance Under Agreements with Agents

46 CFR part 327—Seamen's Claims; Administrative Action and Litigation

46 CFR part 328—Slop Chests

46 CFR part 329—Voyage Data

46 CFR part 330—Launch Services

46 CFR part 332—Repatriation of Seaman

46 CFR part 335—Authority and Responsibility of General Agents to Undertake Emergency Repairs in Foreign Ports

46 CFR part 336—Authority and Responsibility of General Agents to Undertake in Continental United States Ports Voyage Repairs and Service Equipment of Vessels Operated for the Account of the National Shipping Authority Under General Agency Agreement

46 CFR part 337—General Agent's responsibility in Connection with Foreign Repair Custom's Entries

46 CFR part 338—Procedure for Accomplishment of Vessel Repairs Under National Shipping Authority Master Lump Sum Repair Contract—NSA—Lumpsumrep

46 CFR part 339—Procedure for Accomplishment of Ship Repairs Under National Shipping Authority Individual Contract for Minor Repairs—NSA—Worksmalrep

46 CFR part 340—Priority Use and Allocation of Shipping Services, Container and Chassis and Port Facilities and Services for National Security and National Defense Related Operations.

Pipeline and Hazardous Materials Safety Administration (PHMSA)

Section 610 and Other Reviews

Year | Regulations to be reviewed | Analysis year | Review year
1 | 49 CFR part 178 | 2008 | 2009
2 | 49 CFR parts 178 through 180 | 2009 | 2010
3 | 49 CFR parts 172 and 175 | 2010 | 2011
4 | 49 CFR part 171, sections 171.15 and 171.16 | 2011 | 2012
5 | 49 CFR parts 106, 107, 171, 190, and 195 | 2012 | 2013
6 | 49 CFR parts 174, 177, 191, and 192 | 2013 | 2014
7 | 49 CFR parts 176 and 199 | 2014 | 2015
8 | 49 CFR parts 172 through 178 | 2015 | 2016
9 | 49 CFR parts 172, 173, 174, 176, 177, and 193 | 2016 | 2017
10 | 49 CFR parts 173 and 194 | 2017 | 2018

Year 6 (fall 2013) List of Rules Analyzed and a Summary of Results

49 CFR part 174—Carriage by Rail

• Section 610: There is no SEIOSNOSE. On August 27-28, 2013 (78 FR 42998) PHMSA and FRA held a public meeting to address the transportation of hazardous materials by rail. This meeting was part of PHMSA and FRA's comprehensive review of operational factors that affect the safety of the transportation of hazardous materials by rail and sought input from stakeholders and interested parties. Specifically, this meeting sought comment from the regulated community including small entities on revision to part 174. PHMSA and FRA have evaluated the comments from this meeting. The comments to this public meeting noted that some small entities may be affected, but the economic impact on small entities will not be significant. As a result, the agency determined that the rules do not have a significant economic impact on a substantial number of small entities. A response to the public comments, including those of small entities, and proposals for corresponding revisions to part 174 will be included in a future rulemaking.

• General: The requirements in this rule are necessary to protect rail transportation workers and the general public from the dangers associated with hazardous materials incidents in rail transportation. PHMSA's plain language review of this rule indicates no need for substantial revision however any revisions to part 174 as part of a future rulemaking will take into account plain language principles and where appropriate clarify unclear language.

49 CFR part 177—Carriage by Public Highway

• Section 610: There is no SEIOSNOSE. This rule prescribes minimum safety standards for the transportation of hazardous materials for highway transportation. Some small entities may be affected, but the economic impact on small entities will not be significant.

General: The requirements in this rule are necessary to protect highway transportation workers and the general public from the dangers associated with hazardous materials incidents in highway transportation. PHMSA's plain language review of this rule indicates no need for substantial revision.

49 CFR part 191—Transportation of Natural and Other Gas by Pipeline; Annual Reports, Incident Reports, and Safety-Related Condition Reports

• Section 610: There is no SEIOSNOSE. Based on regulated entities, PHMSA found that the majority of operators are not small businesses. Therefore, though some small entities may be affected, the economic impact on small entities will not be significant.

• General: No changes are needed. These regulations are cost effective and impose the least burden. PHMSA's plain language review of this rule indicates no need for substantial revision.

49 CFR part 192—Transportation of Natural and Other Gas by Pipeline: Minimum Federal Safety Standards

• Section 610: There is no SEIOSNOSE. Based on regulated entities, PHMSA found that the majority of operators are not small businesses. Therefore, though some small entities may be affected, the economic impact on small entities will not be significant.

• General: No changes are needed. These regulations are cost effective and impose the least burden. PHMSA's plain language review of this rule indicates no need for substantial revision.

Year 7 (fall 2014) List of Rules That Will Be Analyzed During the Next Year

49 CFR part 176—Carriage by Vessel

49 CFR part 199—Drug and Alcohol Testing

Saint Lawrence Seaway Development Corporation

Section 610 and Other Reviews

Year | Regulations to be reviewed | Analysis year | Review year
1 | 33 CFR parts 401 through 403 | 2008 | 2009

Year 1 (fall 2008) List of rules With Ongoing Analysis

33 CFR part 401—Seaway Regulations and Rules

33 CFR part 402—Tariff of Tolls

33 CFR part 403—Rules of Procedure of the Joint Tolls Review Board

Office of the Secretary—Proposed Rule Stage
Sequence No. | Title | Regulation Identifier No.
365 | +Airline Pricing Transparency and Other Consumer Protection Issues | 2105-AE11
+ DOT-designated significant regulation

Federal Aviation Administration—Proposed Rule Stage
Sequence No. | Title | Regulation Identifier No.
366 | +Operation and Certification of Small Unmanned Aircraft Systems (sUAS) (Reg Plan Seq No. 104) | 2120-AJ60
367 | +Pilot Professional Development (HR 5900) Rebaselined | 2120-AJ87
368 | Flight Simulation Training Device (FSTD) Qualification Standards for Extended Envelope and Adverse Weather Event Training | 2120-AK08
369 | +Drug and Alcohol Testing of Certain Maintenance Provider Employees Located Outside of the United States (Reg Plan Seq No. 106) | 2120-AK09
+ DOT-designated significant regulation
References in boldface appear in The Regulatory Plan in part II of this issue of the Federal Register.

Federal Motor Carrier Safety Administration—Proposed Rule Stage
Sequence No. | Title | Regulation Identifier No.
370 | +Carrier Safety Fitness Determination (Reg Plan Seq No. 111) | 2126-AB11
371 | +Electronic Logging Devices and Hours of Service Supporting Documents (MAP-21) (Reg Plan Seq No. 112) | 2126-AB20
+ DOT-designated significant regulation
References in boldface appear in The Regulatory Plan in part II of this issue of the Federal Register.

Federal Motor Carrier Safety Administration—Final Rule Stage
Sequence No. | Title | Regulation Identifier No.
372 | +Commercial Driver's License Drug and Alcohol Clearinghouse (MAP-21) (Reg Plan Seq No. 113) | 2126-AB18
373 | +Lease and Interchange of Vehicles; Motor Carriers of Passengers | 2126-AB44
374 | +Inspection, Repair, and Maintenance; Driver-Vehicle Inspection Report (RRR) | 2126-AB46
+ DOT-designated significant regulation
References in boldface appear in The Regulatory Plan in part II of this issue of the Federal Register.

Federal Railroad Administration—Proposed Rule Stage
Sequence No. | Title | Regulation Identifier No.
375 | +Train Crew Staffing | 2130-AC48
+ DOT-designated significant regulation

Federal Railroad Administration—Completed Actions
Sequence No. | Title | Regulation Identifier No.
376 | +Training Standards for Railroad Employees | 2130-AC06
+ DOT-designated significant regulation

Pipeline and Hazardous Materials Safety Administration—Proposed Rule Stage
Sequence No. | Title | Regulation Identifier No.
377 | +Pipeline Safety: Safety of On-Shore Liquid Hazardous Pipelines (Reg Plan Seq No. 118) | 2137-AE66
378 | Pipeline Safety: Issues Related to the Use of Plastic Pipe in Gas Pipeline Industry | 2137-AE93
379 | +Pipeline Safety: Operator Qualification, Cost Recovery, Accident and Incident Notification, and Other Changes (RRR) | 2137-AE94
380 | +Pipeline Safety: Amendments to Parts 192 and 195 to Require Valve Installation and Minimum Rupture Detection Standards | 2137-AF06
+ DOT-designated significant regulation
References in boldface appear in The Regulatory Plan in part II of this issue of the Federal Register.

Pipeline and Hazardous Materials Safety Administration—Completed Actions
Sequence No. | Title | Regulation Identifier No.
381 | +Hazardous Materials: Transportation of Lithium Batteries | 2137-AE44
+ DOT-designated significant regulation

Maritime Administration—Proposed Rule Stage
Sequence No. | Title | Regulation Identifier No.
382 | +Cargo Preference | 2133-AB74
+ DOT-designated significant regulation

DEPARTMENT OF TRANSPORTATION (DOT)

Office of the Secretary (OST)

Proposed Rule Stage

365. +Airline Pricing Transparency and Other Consumer Protection Issues

Legal Authority: 49 U.S.C. 41712; 49 U.S.C. 40101; 49 U.S.C. 41702

Abstract: This rulemaking action would enhance protections for air travelers and to improve the air travel environment, including clarification and codification of the Department's interpretation of the statutory definition of ticket agent.” This action would also require airlines and ticket agents to disclose at all points of sale the fees for certain basic ancillary services associated with the air transportation consumers are buying or considering buying. This action would also enhance additional airline passenger protections, such as: Expanding the pool of reporting” carriers; requiring enhanced reporting by mainline carriers for their domestic code-share partner operations; requiring large travel agents to adopt minimum customer service standards; codifying the statutory requirements that carriers and ticket agents disclose any code-share arrangements on their Web sites; and prohibiting unfair and deceptive practices such as undisclosed biasing and post-purchase price increases. This action would require ticket agents to disclose the carriers whose tickets they sell in order to avoid having consumers mistakenly believe they are searching all possible flight options for a particular city-pair market when in fact there may be other options available. Additionally, this action would correct drafting errors and make minor changes to the Department's second Enhancing Airline Passenger Protections rule to conform to guidance issued by the Department's Office of Aviation Enforcement and Proceedings (Enforcement Office) regarding its interpretation of the rule.

Timetable:

Action | Date | FR Cite
NPRM | 05/23/14 | 79 FR 29970
NPRM Comment Period Extended | 08/06/14 | 79 FR 45731
NPRM Comment Period End | 08/21/14 |
NPRM: Extended Comment Period End | 09/22/14 |
Analyzing Comments | 12/00/14 |

Regulatory Flexibility Analysis Required: Yes.

Agency Contact: Blane A Workie, Principal Deputy Assistant General Counsel, Department of Transportation, Office of the Secretary, 1200 New Jersey Avenue SE., Washington, DC 20590, Phone: 202 366-9342. TDD Phone: 202 755-7687, Fax: 202 366-7152, Email: blane.workie@dot.gov.

RIN: 2105-AE11

BILLING CODE 4910-9X-P

DEPARTMENT OF TRANSPORTATION (DOT)

Federal Aviation Administration (FAA)

Proposed Rule Stage

366. +Operation and Certification of Small Unmanned Aircraft Systems (SUAS)

Regulatory Plan: This entry is Seq. No. 104 in part II of this issue of the Federal Register.

RIN: 2120-AJ60

367. +Pilot Professional Development (HR 5900) Rebaselined

Legal Authority: 49 U.S.C. 44701(a)(5); Pub. L. 111-216, sec 206

Abstract: This rulemaking would amend the regulations for air carrier training programs under part 121. The action is necessary to ensure that air carriers establish or modify training programs that address mentoring, leadership, and professional development of flight crewmembers in part 121 operations. The amendments are intended to respond to the mandate in Public Law 111-216.

Timetable:

Action | Date | FR Cite
NPRM | 04/00/15

Regulatory Flexibility Analysis Required: Yes.

Agency Contact: Deke Abbott, Department of Transportation, Federal Aviation Administration, 800 Independence Ave. SW., Washington, DC 20591, Phone: 202 267-8266, Email: deke.abbott@faa.gov.

RIN: 2120-AJ87

368. Flight Simulation Training Device (FSTD) Qualification Standards for Extended Envelope and Adverse Weather Event Training

Legal Authority: 49 U.S.C. 106(g); 49 U.S.C. 40113; 49 U.S.C. 44701; Pub. L. 111-216

Abstract: This rulemaking would amend evaluation qualifications for simulators to ensure the simulators are technically capable of performing new flight training tasks as identified in the Airline Safety and Federal Aviation Administration Extension Act of 2010 (Pub. L. 111-216) and that are included in a separate rulemaking (2120-AJ00). By ensuring the simulators provide an accurate and realistic simulation, this rulemaking would allow for training on the following tasks: (1) Full/aerodynamic stall, and (2) upset recognition and recovery, as identified in Public Law 111-216. Furthermore, this rulemaking would improve the minimum FSTD evaluation requirements for gusting crosswinds (takeoff/landing), engine and airframe icing, and bounced landing recovery methods in response to NTSB and Aviation Rulemaking Committee recommendations. The intended effect is to ensure an adequate level of simulator fidelity.

Timetable:

Action | Date | FR Cite
NPRM | 07/10/14 | 79 FR 39461
NPRM Comment Period Extended | 09/16/14 | 79 FR 55407
NPRM Comment Period End | 10/08/14 |
NPRM Comment Period Extended End | 01/06/15 |

Regulatory Flexibility Analysis Required: Yes.

Agency Contact: Larry McDonald, Department of Transportation, Federal Aviation Administration, PO Box 20636, Atlanta, GA 30320, Phone: 404-474-5620, Email: larry.e.mcdonald@faa.gov.

RIN: 2120-AK08

369. +Drug and Alcohol Testing of Certain Maintenance Provider Employees Located Outside of the United States

Regulatory Plan: This entry is Seq. No. 106 in part II of this issue of the Federal Register.

RIN: 2120-AK09

BILLING CODE 4910-13-P

DEPARTMENT OF TRANSPORTATION (DOT)

Federal Motor Carrier Safety Administration (FMCSA)

Proposed Rule Stage

370. +Carrier Safety Fitness Determination

Regulatory Plan: This entry is Seq. No. 111 in part II of this issue of the Federal Register.

RIN: 2126-AB11

371. +Electronic Logging Devices and Hours of Service Supporting Documents (MAP-21)

Regulatory Plan: This entry is Seq. No. 112 in part II of this issue of the Federal Register.

RIN: 2126-AB20

DEPARTMENT OF TRANSPORTATION (DOT)

Federal Motor Carrier Safety Administration (FMCSA)

Final Rule Stage

372. +Commercial Driver's License Drug and Alcohol Clearinghouse (MAP-21)

Regulatory Plan: This entry is Seq. No. 113 in part II of this issue of the Federal Register.

RIN: 2126-AB18

373. +Lease and Interchange of Vehicles; Motor Carriers of Passengers

Legal Authority: 49 U.S.C. 31502; 49 U.S.C. 13301; 49 U.S.C. 31136

Abstract: FMCSA proposes to adopt regulations governing the lease and interchange of passenger-carrying commercial motor vehicles (CMVs) to: (1) Identify the motor carrier operating a passenger-carrying CMV and responsible for compliance with the Federal Motor Carrier Safety Regulations (FMCSRs) and all other applicable Federal regulations; (2) ensure that a lessor surrenders control of the CMV for the full term of the lease or temporary exchange of CMVs and drivers; and (3) require motor carriers subject to a prohibition on operating in interstate commerce to notify the FMCSA in writing before leasing or otherwise transferring control of their vehicles to other carriers. This action is necessary to ensure that unsafe passenger carriers cannot evade FMCSA oversight and enforcement by operating under the authority of another carrier that exercises no actual control over those operations. This action will enable the FMCSA, the National Transportation Safety Board (NTSB), and our Federal and State partners to identify motor carriers transporting passengers in interstate commerce, and correctly assign responsibility to these entities for regulatory violations during inspections, compliance investigations, and crash studies. It also provides the general public with the means to identify the responsible motor carrier at the time of transportation. While detailed lease and interchange regulations for cargo-carrying vehicles have been in effect since 1950, these proposed rules for passenger-carrying CMVs are focused entirely on operational safety.

Timetable:

Action | Date | FR Cite
NPRM | 09/20/13 | 78 FR 57822
NPRM Comment Period End | 11/19/13 |
Final Rule | 08/00/15 |

Regulatory Flexibility Analysis Required: Yes.

Agency Contact: David Miller, Regulatory Development Division, Department of Transportation, Federal Motor Carrier Safety Administration, 1200 New Jersey Avenue SE., Washington, DC 20590, Phone: 202 366-5370, Email: fmcsaregs@dot.gov.

RIN: 2126-AB44

374. +Inspection, Repair, and Maintenance; Driver-Vehicle Inspection Report (RRR)

Legal Authority: 49 U.S.C. 31502(b)

Abstract: This rulemaking would rescind the requirement that commercial motor vehicle (CMV) drivers operating in interstate commerce submit, and motor carriers retain, driver-vehicle inspection reports when the driver has neither found nor been made aware of any vehicle defects or deficiencies. Specifically, this rulemaking would remove a significant information collection burden without adversely impacting safety. This rulemaking responds in part to the President's January 2012 Regulatory Review and Reform initiative.

Timetable:

Action | Date | FR Cite
NPRM | 08/07/13 | 78 FR 48125
Comment Period End | 10/07/13
Final Rule | 11/00/14

Regulatory Flexibility Analysis Required: Yes.

Agency Contact: Sean Gallagher, MC-PRR, Department of Transportation, Federal Motor Carrier Safety Administration, 1200 New Jersey Avenue SE., Washington, DC 20590, Phone: 202 366-3740, Email: sean.gallagher@dot.gov.

RIN: 2126-AB46

BILLING CODE 4910-EX-P

DEPARTMENT OF TRANSPORTATION (DOT)

Federal Railroad Administration (FRA)

Proposed Rule Stage

375. • +Train Crew Staffing

Legal Authority: 49 U.S.C. 20103; 49 U.S.C. 20107; 49 U.S.C. 21301 to 21302; 49 U.S.C. 21304; 28 U.S.C. 2461, note; 49 CFR 1.89

Abstract: This rulemaking would add minimum requirements for the size of different train crew staffs depending on the type of operation. The minimum crew staffing requirements would reflect for the safety risks posed to railroad employees, the general public, and the environment and would account for differences in costs. This rulemaking would also establish minimum requirements for the roles and responsibilities of the second train crew member on a moving train, and promote safe and effective teamwork. Additionally, this rulemaking would permit a railroad to submit information to FRA and seek approval if it wants to continue an existing operation with a one-person train crew or start up an operation with less than two crew members.

Timetable:

Action | Date | FR Cite
NPRM | 01/00/15

Regulatory Flexibility Analysis Required: Yes.

Agency Contact: Kathryn Shelton, Trial Attorney, Department of Transportation, Federal Railroad Administration, 400 Seventh Street SW., Washington, DC 20590, Phone: 202 493-6063, Fax: 202 493-6068.

RIN: 2130-AC48

DEPARTMENT OF TRANSPORTATION (DOT)

Federal Railroad Administration (FRA)

Completed Actions

376. +Training Standards for Railroad Employees

Legal Authority: Pub. L. 110-432, Div A, 122 Stat 4848 et seq.; Railroad Safety Improvement Act of 2008; sec 401 (49 U.S.C. 20162)

Abstract: This rulemaking would: (1) Establish minimum training standards for each class or craft of safety-related employee and equivalent railroad contractor and subcontractor employee by requiring railroads, contractors, and subcontractors to qualify and document the proficiency of such employees on their knowledge and ability to comply with Federal railroad safety laws and regulations, and railroad rules, and procedures intended to implement those laws and regulations, etc.; (2) require submission of the training and qualification programs for FRA approval; and (3) establish a minimum training curriculum, and ongoing training criteria, testing, and skills evaluation measures.

Timetable:

Action | Date | FR Cite
NPRM | 02/07/12 | 77 FR 6412
NPRM Comment Period End | 04/09/12
Final Rule | 11/07/14 | 79 FR 66460
Final Rule Effective | 01/06/15

Regulatory Flexibility Analysis Required: Yes.

Agency Contact: Kathryn Shelton, Trial Attorney, Department of Transportation, Federal Railroad Administration, 1200 New Jersey Ave. SE., Washington, DC 20590, Phone: 202 493-6063, Email: kathryn.shelton@fra.dot.gov.

RIN: 2130-AC06

BILLING CODE 4910-06-P

DEPARTMENT OF TRANSPORTATION (DOT)

Pipeline and Hazardous Materials Safety Administration (PHMSA)

Proposed Rule Stage

377. +Pipeline Safety: Safety of On-Shore Liquid Hazardous Pipelines

Regulatory Plan: This entry is Seq. No. 118 in part II of this issue of the Federal Register.

RIN: 2137-AE66

378. Pipeline Safety: Issues Related to the Use of Plastic Pipe in Gas Pipeline Industry

Legal Authority: 49 U.S.C. 60101 et seq.

Abstract: This rulemaking would address a number of topics related to the use of plastic pipe in the gas pipeline industry. These topics include certain newer types of plastic pipe PE (polyethylene), PA11 (polyamide 11), PA12 (polyamide 12), 50-year markings, design factors, risers, incorporation by reference of certain plastic pipe related standards, and tracking and traceability.

Timetable:

Action | Date | FR Cite
NPRM | 04/00/15

Regulatory Flexibility Analysis Required: Yes.

Agency Contact: Cameron H Satterthwaite, Transportation Regulations Specialist, Department of Transportation, Pipeline and Hazardous Materials Safety Administration, 1200 New Jersey Avenue SE., Washington, DC 20590, Phone: 202 366-8553, Email: cameron.satterthwaite@dot.gov.

RIN: 2137-AE93

379. +Pipeline Safety: Operator Qualification, Cost Recovery, Accident and Incident Notification, and Other Changes (RRR)

Legal Authority: 49 U.S.C. 60101 et seq.

Abstract: This rulemaking would address miscellaneous issues that have been raised because of the reauthorization of the pipeline safety program in 2012, and petitions for rulemaking from many affected stakeholders. Some of the issues that this rulemaking would address include: renewal process for special permits, cost recovery for design reviews, and incident reporting.

Timetable:

Action | Date | FR Cite
NPRM | 04/00/15

Regulatory Flexibility Analysis Required: Yes.

Agency Contact: John A Gale, Transportation Regulations Specialist, Department of Transportation, Pipeline and Hazardous Materials Safety Administration, 1200 New Jersey Avenue SE., Washington, DC 20590, Phone: 202-366-0434, Email: john.gale@dot.gov.

RIN: 2137-AE94

380. +Pipeline Safety: Amendments to Parts 192 and 195 To Require Valve Installation and Minimum Rupture Detection Standards

Legal Authority: 49 U.S.C. 60101 et seq.

Abstract: This rulemaking action would propose mandatory installation of automatic shutoff valves, remote controlled valves, or equivalent technology, and establish performance-based meaningful metrics for rupture detection for gas and liquid transmission pipelines. The overall intent is that rupture detection metrics will be integrated with ASV and RCV placement, with the objective of improving overall incident response. Rupture response metrics would focus on mitigating large, unsafe, uncontrolled release events that have a greater potential consequence. The areas proposed to be covered include high consequence areas (HCA) for hazardous liquids and HCA, Class 3 and 4 for natural gas (including could affect areas).

Timetable:

Action | Date | FR Cite
NPRM | 05/00/15

Regulatory Flexibility Analysis Required: Yes.

Agency Contact: Lawrence White, Attorney-Advisor, Department of Transportation, Pipeline and Hazardous Materials Safety Administration, 400 Seventh Street SW., Washington, DC 20590, Phone: 202 366-4400, Fax: 292 366-7041.

RIN: 2137-AF06

DEPARTMENT OF TRANSPORTATION (DOT)

Pipeline and Hazardous Materials Safety Administration (PHMSA)

Completed Actions

381. +Hazardous Materials: Transportation of Lithium Batteries

Legal Authority: 49 U.S.C. 5101 et seq.

Abstract: This rulemaking amended the Hazardous Materials Regulations to comprehensively address the safe transportation of lithium cells and batteries. The rulemaking strengthened the regulatory framework by imposing more effective safeguards, including design testing to address risks related to internal short circuits, and enhanced packaging, hazard communication, and operational measures for various types and sizes of lithium batteries in specific transportation contexts. The rulemaking responded to several recommendations issued by the National Transportation Safety Board.

Timetable:

Action | Date | FR Cite
NPRM | 01/11/10 | 75 FR 1302
NPRM Comment Period End | 03/12/10
Notice | 04/11/12 | 77 FR 21714
Notice Comment Period End | 05/11/12
NPRM; Request for Additional Comments | 01/07/13 | 78 FR 1119
Additional Comments Period End | 03/08/13
Final Rule | 08/06/14 | 79 FR 46011
Final Rule Effective | 08/06/14

Regulatory Flexibility Analysis Required: Yes.

Agency Contact: Kevin Leary, Transportation Specialist, Department of Transportation, Pipeline and Hazardous Materials Safety Administration, 1200 New Jersey Avenue SE., Washington, DC 20590, Phone: 202-366-8553, Email: kevin.leary@dot.gov.

RIN: 2137-AE44

BILLING CODE 4910-60-P

DEPARTMENT OF TRANSPORTATION (DOT)

Maritime Administration (MARAD)

Proposed Rule Stage

382. +Cargo Preference

Legal Authority: 49 CFR 1.66; 46 app U.S.C. 1101; 46 app U.S.C. 1241; 46 U.S.C. 2302 (e)(1); Pub. L. 91-469

Abstract: This rulemaking would revise and clarify the cargo preference regulations that have not been revised substantially since 1971. The rulemaking would also implement statutory changes, including section 3511, Public Law 110 to 417, of The National Defense Authorization Act for FY 2009, which provides enforcement authority.

Timetable:

Action | Date | FR Cite
NPRM | 02/00/15

Regulatory Flexibility Analysis Required: Yes

Agency Contact: Christine Gurland, Department of Transportation, Maritime Administration, 1200 New Jersey Avenue SE., Washington, DC 20590, Phone: 202 366-3000, Email: christine.gurland@dot.gov.

RIN: 2133-AB74

[FR Doc. 2014-29407 Filed 12-19-14; 8:45 am]

BILLING CODE 4910-81-P